DEPARTMENT OF TRANSPORTATION

Federal Aviation Administration

14 CFR Part 39

[Docket No. FAA-2008-0306; Directorate Identifier 2008-CE-014-AD; Amendment 39-15544; AD 2008-12-01]

RIN 2120-AA64

Airworthiness Directives; Cessna Aircraft Company Model 525 Airplanes

AGENCY: Federal Aviation Administration (FAA), Department of Transportation (DOT).

ACTION: Final rule.

SUMMARY: We are adopting a new airworthiness directive (AD) for certain Cessna Aircraft Company (Cessna) Model 525 airplanes. This AD requires you to inspect for missing firewall sealant between the aft firewall assembly and seal assembly; and, if you find that firewall sealant is missing, seal with firewall sealant between the aft firewall assembly and seal assembly. This AD results from a report that firewall sealant may not have been applied between the aft firewall assembly and seal assembly during manufacture of certain Model 525 airplanes. We are issuing this AD to detect and correct missing firewall sealant between the aft firewall assembly and seal assembly, which could result in failure of the fire extinguishing system to prevent the spread of fire through the firewall gap. This failure could lead to an uncontrolled fire.

DATES: This AD becomes effective on July 16, 2008.

On July 16, 2008, the Director of the Federal Register approved the incorporation by reference of certain publications listed in this AD.

ADDRESSES: For service information identified in this AD, contact Cessna Aircraft Company, Product Support, P.O. Box 7706, Wichita, Kansas 67277; telephone: (316) 517-5800; fax: (316) 942-9006.

To view the AD docket, go to U.S. Department of Transportation, Docket Operations, M-30, West Building Ground Floor, Room W12-140, 1200 New Jersey Avenue, SE., Washington, DC 20590, or on the Internet at http://www.regulations.gov. The docket number is FAA-2008-0306; Directorate Identifier 2008-CE-014-AD.

FOR FURTHER INFORMATION CONTACT: James Galstad, Aerospace Engineer, Wichita Aircraft Certification Office, 1801 Airport Road, Room 100, Wichita, Kansas 67209; telephone: (316) 946-4135; fax: (316) 946-4107.

SUPPLEMENTARY INFORMATION:

Discussion

On March 7, 2008, we issued a proposal to amend part 39 of the Federal Aviation Regulations (14 CFR part 39) to include an AD that would apply to certain Cessna Model 525 airplanes. This proposal was published in the Federal Register as a notice of proposed rulemaking (NPRM) on March 13, 2008 (73 FR 13486). The NPRM proposed to require you to inspect for missing firewall sealant between the aft firewall assembly and seal assembly; and, if you find that firewall sealant is missing, seal with firewall sealant between the aft firewall assembly and seal assembly.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 45 airplanes in the U.S. registry.

We estimate the following costs to do the inspection:

Labor cost | Parts cost | Total cost per airplane | Total cost on U.S. operators
1 work-hour × $80 per hour = $80 | Not Applicable | $80 | $3,600

We estimate the following costs to do any necessary repairs that would be required based on the results of the inspection. We have no way of determining the number of airplanes that may need this repair:

Labor cost | Parts cost | Total cost per airplane
4 work-hours × $80 per hour = $320 | $30 | $350

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-0306; Directorate Identifier 2008-CE-014-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-12-01 Cessna Aircraft Company: Amendment 39-15544; Docket No. FAA-2008-0306; Directorate Identifier 2008-CE-014-AD.

Effective Date

(a) This AD becomes effective on July 16, 2008.

Applicability

(c) This AD applies to Model 525 airplanes, serial numbers 525-0600 through 525-0662, that are certificated in any category.

Affected ADs

(b) None.

Unsafe Condition

(d) This AD results from a report that firewall sealant may not have been applied between the aft firewall assembly and seal assembly during manufacture of certain Model 525 airplanes. We are issuing this AD to detect and correct missing firewall sealant between the aft firewall assembly and seal assembly, which could result in failure of the fire extinguishing system to prevent the spread of fire through the firewall gap. This failure could lead to an uncontrolled fire.

Compliance

(e) To address this problem, you must do the following, unless already done:

Actions | Compliance | Procedures
(1) Inspect between the 6352225 aft firewall assembly and 6352226 seal assembly for missing firewall sealant | Within the next 60 hours time-in-service (TIS) after July 16, 2008 (the effective date of this AD) or within 60 days after July 16, 2008 (the effective date of this AD), whichever occurs first | Follow Cessna Aircraft Company Citation Service Letter SL525-71-05, Revision 1, dated February 6, 2008.
(2) If, as a result of the inspection required by paragraph (e)(1) of this AD, you find there is missing firewall sealant between the 6352225 aft firewall assembly and 6352226 seal assembly, seal with U000117S firewall sealant in the gap between the 6352225 aft firewall assembly and 6352226 seal assembly | Before further flight after the inspection required by paragraph (e)(1) of this AD | Follow Cessna Aircraft Company Citation Service Letter SL525-71-05, Revision 1, dated February 6, 2008.

Alternative Methods of Compliance (AMOCs)

(f) The Manager, Wichita Aircraft Certification Office (ACO), FAA, has the authority to approve AMOCs for this AD, if requested using the procedures found in 14 CFR 39.19. Send information to ATTN: James Galstad, Aerospace Engineer, Wichita ACO, 1801 Airport Road, Room 100, Wichita, Kansas 67209; telephone: (316) 946-4135; fax: (316) 946-4107. Before using any approved AMOC on any airplane to which the AMOC applies, notify your appropriate principal inspector (PI) in the FAA Flight Standards District Office (FSDO), or lacking a PI, your local FSDO.

Material Incorporated by Reference

(g) You must use Cessna Aircraft Company Citation Service Letter SL525-71-05, Revision 1, dated February 6, 2008, to do the actions required by this AD, unless the AD specifies otherwise.

(1) The Director of the Federal Register approved the incorporation by reference of this service information under 5 U.S.C. 552(a) and 1 CFR part 51.

(2) For service information identified in this AD, contact Cessna Aircraft Company, Product Support, P.O. Box 7706, Wichita, Kansas 67277; telephone: (316) 517-5800; fax: (316) 942-9006.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on May 27, 2008.
David R. Showers,
Acting Manager, Small Airplane Directorate, Aircraft Certification Service.

[FR Doc. E8-12305 Filed 6-10-08; 8:45 am]

BILLING CODE 4910-13-P